ENVIRONMENTAL PROTECTION AGENCY

[EPA-HQ-OPPT-2015-0184; FRL-9927-92]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from April 1, 2015 to April 29, 2015.

DATES: Comments identified by the specific PMN number or TME number, must be received on or before July 2, 2015.

ADDRESSES: Submit your comments, identified by docket identification (ID) number EPA-HQ-OPPT-2015-0184, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD, 7407M, Office of Pollution Prevention and Toxics, Environmental Protection Agency, 1200 Pennsylvania Ave. NW., Washington, DC 20460-0001; telephone number: 202-564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that may apply to this action. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from April 1, 2015 to April 29, 2015, and consists of the PMNs and TMEs both pending and/or expired, and the NOCs to manufacture a new chemical that the Agency has received under TSCA section 5 during this time period.

III. What is the agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—63 PMNs Received From 04/01/2015 to 04/29/2015
Case No. | Received date | Projected notice end date | Manufacturer/ Importer | Use | Chemical
P-15-0311 | 2/23/2015 | 5/24/2015 | CBI | (G) Material for photosensitive resin | (G) Triarylsulfonium salt with haloalkyl phosphate.
P-15-0377 | 4/1/2015 | 6/30/2015 | PCCR USA, Inc | (S) Plasticizer in automotive parts | (S) 1,2,4-Benzenetricarboxylic acid, 1,2,4-trionyl ester.
P-15-0378 | 4/3/2015 | 7/2/2015 | Allnex USA, Inc | (S) Dual cure/UV cure adhesion/barrier coating for wood substrates | (G) Alkoxylated substituted alkyl alkenoate polymer with disubstituted alkane.
P-15-0379 | 4/3/2015 | 7/2/2015 | CBI | (G) Agricultural | (G) Polyitaconic acid.
P-15-0379 | 4/3/2015 | 7/2/2015 | CBI | (G) Industrial | (G) Polyitaconic acid.
P-15-0379 | 4/3/2015 | 7/202015 | CBI | (G) Home care | (G) Polyitaconic acid.
P-15-0380 | 4/3/2015 | 7/2/2015 | CBI | (G) Agricultural | (G) Polyitaconic acid, potassium salt.
P-15-0381 | 4/3/2015 | 7/2/2015 | CBI | (G) Agricultural | (G) Polyitaconic acid, ammonium salt.
P-15-0382 | 4/3/2015 | 7/2/2015 | CBI | (G) Industrial | (G) Polyitaconic acid, sodium zinc salt.
P-15-0383 | 4/3/2015 | 7/2/2015 | CBI | (G) Agricultural | (G) Polyitaconic acid, partially decarboxylated.
P-15-0384 | 4/6/2015 | 7/5/2015 | CBI | (G) Open, non-dispersive | (G) Azo Dyestuff.
P-15-0385 | 4/6/2015 | 7/5/2015 | CBI | (G) Candle component | (G) Hydrogenated oil.
P-15-0386 | 4/6/2015 | 7/5/2015 | CBI | (G) Ingredient for consumer products. Dispersive use | (S) 2-cyclohexen-1-ol, 2-methyl-5-(1-methylethenyl)-, 1-acetate, (1r,5r)-*.
P-15-0389 | 4/8/2015 | 7/7/2015 | Shin Etsu Silicones of America | (S) Silylating agent | (S) 2-Propenoic acid, 2-ethylhexyl ester, reaction products with dimethoxymethylsilane.
P-15-0389 | 4/8/2015 | 7/7/2015 | Shin Etsu Silicones of America | (S) Additive for silicone RTV rubber compounds | (S) 2-Propenoic acid, 2-ethylhexyl ester, reaction products with dimethoxymethylsilane.
P-15-0390 | 4/8/2015 | 7/7/2015 | CBI | (G) Lens material for use in electronic applications | (G) Substituted carbopolycyclic dicarboxylic acid dialkyl ester, polymer with dialkyl carbopolycyclic ester alkanediol and carbopolycyclic bis (substituted carbomonocycle).
P-15-0391 | 4/9/2015 | 7/8/2015 | ICL-IP America, Inc | (G) The major intended use of BCA13 is as electrolytes for energy storage flow batteries. The energy storage flow batteries are for industries use. | (G) Organic salt.
P-15-0392 | 4/9/2015 | 7/8/2015 | Polynt S.p.A | (S) Plasticizer for pvc powders for car interiors manufacturing; plasticizer for pvc compounds for cables | (S) 1,2,4-Benzenetricarboxylic acid, mixed decyl and octyl triesters*.
P-15-0393 | 4/9/2015 | 7/8/2015 | CBI | (G) Adhesive | (G) Alkanedioic acid, polymer with Alkanediol, .alpha.-hydro-omega.-ohydroxypoly[oxy(alkyl)] and alkyl aromatic diisocyanate.
P-15-0394 | 4/9/2015 | 7/8/2015 | CBI | (G) Adhesive | (G) Alkanedioic acid, polymer with Alkanediol, .alpha.-hydro-omega.-hydroxypoly(oxy-alkanediyll, aromaticfurandione and alkylaromaticdiisocy anate.
P-15-0395 | 4/9/2015 | 7/8/2015 | CBI | (G) Adhesive | (G) Alkanedioic acid, polymer with Alkanediol, .alpha.-hydro-.omega.-hydroxypoly(oxy- alkanediyl), aromaticfuranedione and alkylaromatic diisocyanate.
P-15-0396 | 4/10/2015 | 7/9/2015 | CBI | (G) Resin for automotive coatings | (G) Alkylmethacrylate, polymer with alkenylbenzene, branched alkylmethacrylate, hydroxyalkylmethacrylate and acrylic acid, T-butyl alkaneperoxoic acid ester-initiated.
P-15-0397 | 4/10/2015 | 7/9/2015 | CBI | (G) Industrial roll coat construction adhesive | (G) Alkylmethacrylate, polymer with alkenylbenzene, branched-alkylmethacrylate and hydroxyalkylmethacrylate, T-butyl alkaneperoxoic acid ester-initiated.
P-15-0398 | 4/10/2015 | 7/9/2015 | CBI | (G) Resin for solvent borne coatings | (G) Cycloalkyl dicarboxylic anhydride, polymer with tetrahydroxyalkyl, saturated fatty ester, and branched alkyl glycidyl ester.
P-15-0399 | 4/10/2015 | 7/9/2015 | CBI | (G) Paint component | (G) Alkylbenzene sulfonic acid salt of n-(3-(trialkylamino)alkyl)alkylacrylamide, polymer with alkyl alkylacrylate and alkylated bicycloalkyl alkylacrylate.
P-15-0400 | 4/10/2015 | 7/9/2015 | CBI | (G) Paint component | (G) Alkylbenzene sulfonic acid salt of n-(3-(trialkylamino)alkyl)alkylacrylamide, polymer with alkyl alkylacrylate and alkylated bicycloalkyl alkylacrylate.
P-15-0401 | 4/10/2015 | 7/9/2015 | Carbon 3D, Inc | (G) Oligomeric component of 3D printer resin formulations | (G) Urethane oligomer.
P-15-0402 | 4/10/2015 | 7/9/2015 | Carbon 3D, Inc | (G) Oligomeric component of 3D printer resin formulations | (G) Urethane oligomer.
P-15-0403 | 4/11/2015 | 7/10/2015 | Trinity Manufacturing, Inc | (G) Soil fumigant additive allowing emulsification of liquid soil fumigants (dispersive use) | (G) Ethoxylated amine phosphate ester.
P-15-0404 | 4/10/2015 | 7/9/2015 | Carbon 3D, Inc | (G) Oligomeric component of 3D printer resin formulations | (G) Urethane oligomer.
P-15-0405 | 4/13/2015 | 7/12/2015 | Evonik Corporation | (S) Base polymer for use in parquet adhesive formulations; base polymer for use in misc. adhesive formulations | (S) Poly[oxy(methyl-1, 2-ethanediyl)], .alpha.-hydro-.omega.-hydroxy-, polymer with 5-isocyanato-1-(isocyanatomethyl)-1,3,3-trimethylcyclohexane, n-[3-(trimethoxysily)propyl]-1-butanamine-blocked*.
P-15-0408 | 4/13/2015 | 7/12/2015 | CBI | (G) Ingredient in industrial adhesive | (G) Aqueous polyurethane dispersion.
P-15-0409 | 4/14/2015 | 7/13/2015 | CBI | (S) Hydrogen Sulfide Scavenger | (G) Substituted alkanolamine ether.
P-15-0410 | 4/14/2015 | 7/13/2015 | CBI | (G) MDI prepolymer for Cast Elastomers | (G) MDI Prepolymer.
P-15-0411 | 4/15/2015 | 7/14/2015 | CBI | (G) Additive in aqueous solutions | (G) Fatty acid esters with polyols polyalkyl ethers.
P-15-0412 | 4/15/2015 | 7/14/2015 | CBI | (G) Cross Linking Agent | (G) Perfluorinated alkyl diene.
P-15-0414 | 4/17/2015 | 7/16/2015 | Carbon 3D, Inc | (G) Oligomeric component of 3D printer resin formulations | (G) Urethane oligomer.
P-15-0415 | 4/17/2015 | 7/16/2015 | Carbon 3D, Inc | (G) Oligomeric component of 3D printer resin formulations | (G) Urethane oligomer.
P-15-0416 | 4/17/2015 | 7/16/2015 | CBI | (G) Urethane coating | (G) Aromatic isocyanate, polymer with aromatic diamine, alkyloxirane, alkyloxirane polymer with oxirane ether with alkyltriol (3:1 ), and oxirane.
P-15-0417 | 4/17/2015 | 7/16/2015 | CBI | (G) Urethane coating | (G) Aromatic isocyanate, polymer with aromatic diamine, alkyloxirane, alkyloxirane polymer with poly alkylene glycol.
P-15-0418 | 4/17/2015 | 7/16/2015 | CBI | (S) Water clarifying agent, odor control agent, bleaching agent, and general oxidant for water treatment | (G) Alkyl peroxide.
P-15-0418 | 4/17/2015 | 7/16/2015 | CBI | (G) Destructive use in fuel production | (G) Alkyl peroxide.
P-15-0419 | 4/20/2015 | 7/19/2015 | CBI | (G) Flame retardant material | (G) 2,2-bis[3′,5′-dihaloo-4′-haloalkyloxy Carbomonocycle] propane.
P-15-0421 | 4/21/2015 | 7/20/2015 | CBI | (G) Intermediate | (G) Alkoxysilane.
P-15-0422 | 4/21/2015 | 7/20/2015 | CBI | (S) Reactive polymer in 2 part epoxy adhesive | (G) Amine modified epoxy resin.
P-15-0423 | 4/21/2015 | 7/20/2015 | Carbon 3D, Inc | (G) Oligomeric component of 3D printer | (G) Urethane oligomer.
P-15-0424 | 4/21/2015 |  | Colonial Chemical, Inc | (S) Intermediate to make polymers | (S) D-glucopyranose, oligomeric, bu glycosides, polymers with epichlorohydrin*.
P-15-0425 | 4/21/2015 | 7/20/2015 | Colonial Chemical, Inc | (S) Intermediate to make polymers | (S) D-glucopyranoside, hexyl, polymer with 2-(chloromethyl) oxirane*.
P-15-0426 | 4/21/2015 | 7/20/2015 | Colonial Chemical, Inc | (S) Viscosity control in hard surface cleaners | (S) Tetradecanoic acid, compd. with 1,1'-iminobid [2-propanol] (1:1) (9ci)*.
P-15-0427 | 4/22/2015 | 7/21/2015 | CBI | (G) Resin for coatings | (G) Substituted alkylene carbomonocycle, homopolymer, substituted polyol and mono alkyl ether-blocked polyol.
P-15-0428 | 4/23/2015 | 7/22/2015 | ICL-IP America, Inc | (G) The major intended use of BCA13 is as electrolytes for energy storage flow batteries. The energy storage flow batteries are for industries use | (G) Alkyl pyridinium bromide.
P-15-0429 | 4/23/2015 | 7/22/2015 | CBI | (G) HAPS free, silicone based resin for the manufacture of ambient curing | (G) Siloxanes and silicones, alkoxy Me, polymers with Me silsesquioxanes, alkoxy-terminated industrial coatings, such as anti-corrosion coatings for mufflers, ovens, chimneys, oven inserts, barbeques and electric and gas heaters as well as other large industrial objects and equipment.
P-15-0430 | 4/23/2015 | 7/22/2015 | CBI | (G) Papermaking additive | (G) Poly(alkyl amine) copolymer.
P-15-0431 | 4/24/2015 | 7/23/2015 | CBI | (G) Alkyd polymeric additive for industrial coatings | (G) C16-18 and C18-unsaturated, polymer with alkyl triol and acid anhydride.
P-15-0433 | 4/26/2015 | 7/25/2015 | CBI | (G) Lubricant additive | (G) Chlorinated complex ester.
P-15-0435 | 4/27/2015 | 7/26/2015 | CBI | (G) Open, non-dispersive | (G) 2,7-Naphthalenedisulfonic acid, 4-amino-3-[substituted]-5-hydroxy-6-[(1e)-2-phenyldiazenyl]-, lithium salt (1:3).
P-15-0436 | 4/28/2015 | 7/27/2015 | CBI | (G) Stain block, surfactant, and antiblock agent | (G) Anionic aqueous fluorochemical dispersion.
P-15-0437 | 4/28/2015 | 7/27/2015 | Henkel Corporation | (S) A curable component of adhesive formulations | (G) Flexible Polyurethane Methacrylate Resin.
P-15-0438 | 4/29/2015 | 7/28/2015 | CBI | (G) A destructive use in the manufacture of coating materials and fuels | (G) Zinc carboxylate.
P-15-0439 | 4/29/2015 | 7/28/2015 | Perstorp Polyols, Inc | (S) Adhesives for industrial packaging applications | (S) 1,4-Dioxane-2,5-dione, 3,6-dimethyl-, (3S,6S)-, polymer with 2-oxepanone.
P-15-0440 | 4/29/2015 | 7/28/2015 | CBI | (G) Adhesion modifier | (G) Hetero substituted alkyl acrylate polymer.
P-15-0441 | 4/29/2015 | 7/28/2015 | CBI | (G) Intermediate | (G) Xanthate reactive hydrophilic polymer.

In Table II. of this unit, EPA provides the following information (to the extent that such information is not claimed as CBI) on the NOCs received by EPA during this period: The EPA case number assigned to the NOC, the date the NOC was received by EPA, the projected end date for EPA's review of the NOC, and chemical identity.

Table II—22 NOCs Received From 04/01/2015 to 04/29/2015
Case No. | Received date | Commencement notice end date | Chemical
P-14-0057 | 4/7/2015 | 3/10/2015 | (G) Glycerides, C8-C18 and C18 unsaturated, from algal fermentation.
P-14-0513 | 4/9/2015 | 3/13/2015 | (G) Bisxylenol diglycidyl ether polymer.
P-14-0831 | 4/15/2015 | 3/19/2015 | (G) Fatty acids, polymers with acrylic monomers, bisphenol a, 2-ethoxyethanol, epichlorohydrin and styrene, alkyl peroxide-initiated, cmpds. with triethylamine.
P-14-0832 | 4/15/2015 | 3/19/2015 | (G) Fatty acids, polymers with acrylic monomers, bisphenol A, modified oil, epichlorohydrin and styrene, alkyl peroxide-initiated, compounds with triethylamine.
P-15-0115 | 4/1/2015 | 3/25/2015 | (G) Phenol-biphenyl-formaldehyde polycondensate.
P-15-0116 | 4/1/2015 | 3/25/2015 | (G) Polymer of phenol, biphenyl and resorcinol.
P-15-0131 | 4/8/2015 | 3/25/2015 | (S) Acetic acid ethenyl ester, polymer with 1-ethenyl-2-pyrrolidinone, hydrolyzed*.
P-14-0677 | 4/17/2015 | 3/25/2015 | (G) Polyester acrylate.
P-15-0151 | 4/3/2015 | 3/27/2015 | (G) Glycidyl ester methacrylate, polymer with alkyl acrylate, and styrene, 2-propenoate.
P-14-0571 | 4/4/2015 | 3/30/2015 | (G) Hydroxy tetra alkyl esters of trialkyl alkanoic acid with cycloaminoethanol.
P-15-0055 | 4/6/2015 | 3/31/2015 | (G) Aromatic isocyanate, polxmer with alkyloxirane polymer with oxirane ether with polyfunctional alcohol, and alkyloxirane polymer with oxirane ether with triol (3:1).
P-15-0093 | 4/20/2015 | 4/1/2015 | (G) Aromatic polymer salt.
P-12-0354 | 4/6/2015 | 4/2/2015 | (S) 1,3-Propanediol, 2-ethyl-2-(hydroxymethyl)-, polymer with 1,6-diisocyanatohexane and 5-isocyanato-1-(isocyanatomethyl)-1,3,3-trimethylcyclohexane, 3,5-dimethyl-1h-pyrazole-and 3-hydroxy-2,2-dimethylpropanoic acid-blocked, compds with 2-(dimethylamino) ethanol*.
P-15-0156 | 4/10/2015 | 4/6/2015 | (G) Amine modified epoxy resin.
P-14-0679 | 4/17/2015 | 4/6/2015 | (G) 2-(Dimethylamino)ethyl methyl-2-propanoate, polymer with alkyl-substituted methyl-2-propanoate and aryl-substituted methyl-2-propanoate, salt with phosphorylated caprolactone, alkyloxoheteromonocycle and polyalkylene polyol alkyl ether.
P-13-0569 | 4/14/2015 | 4/10/2015 | (S) 5H-cyclopenta[h]quinazoline, 6,6a,7,8,9,9a-hexahydro-7,7,8,9,9-pentamethyl-*.
P-14-0862 | 4/23/2015 | 4/10/2015 | (G) Furanose ester.
P-15-0108 | 4/16/2015 | 4/14/2015 | (G) Urethane acrylate.
P-15-0119 | 4/16/2015 | 4/14/2015 | (G) Ester acrylate.
P-15-0175 | 4/22/2015 | 4/14/2015 | (G) Carbamic acid, hydroxyalkyl ester, polymer with hydroxyalkyl carbamate and alkylisocyanate, alkoxyethanol-blocked.
P-14-0561 | 4/24/2015 | 4/21/2015 | (S) D-glucopyranose, oligomeric, decyl octyl glycosides, polymers with epichlorohydrin*.
J-14-0010 | 4/25/2015 | 4/15/2015 | (G) Trichoderma reesei 5347, producing beta-glucosidase.

If you are interested in information that is not included in these tables, you may contact EPA as described in Unit III. to access additional non-CBI information that may be available.

Authority: 15 U.S.C. 2601 et seq.

Dated: May 27, 2015.
Chandler Sirmons,
Acting Director, Information Management Division, Office of Pollution Prevention and Toxics.

[FR Doc. 2015-13418 Filed 6-1-15; 8:45 am]

BILLING CODE 6560-50-P